DEPARTMENT OF TRANSPORTATION

National Highway Traffic Safety Administration

[U.S. DOT Docket No. NHTSA-2013-0069]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before August 5, 2013.

ADDRESSES: You may submit comments identified by DOT Docket ID Number NHTSA-2013-0069 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue SE., W46-499, Washington, DC 20590. Mr. Block's phone number is 202-366-6401 and his email address is alan.block@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Motor Vehicle Occupant Safety Survey (MVOSS)

Type of Request—Reinstatement with change.

OMB Clearance Number—2127-0645.

Form Number—NHTSA 1020A and NHTSA 1020B.

Requested Expiration Date of Approval—3 years from date of approval.

Summary of the Collection of Information—NHTSA proposes to conduct the Motor Vehicle Occupant Safety Survey (MVOSS) among a national probability sample of 12,000 adults (age 16 and older). The MVOSS focuses on issues related to seat belt and child restraint use, and has been conducted on a periodic basis by NHTSA since 1994. This would be the seventh administration of the MVOSS. Participation by respondents would be voluntary.

NHTSA's information needs require seat belt and child safety seat sections too large to merge into a single survey instrument without producing an inordinate burden on respondents. Rather than reduce these sections, the proposed survey instrument is divided into two questionnaires. Each questionnaire would be administered to one-half the total number of respondents to be interviewed. The average amount of time for respondents to complete either questionnaire is estimated to be 15 minutes, a slight reduction from earlier years due to the inclusion of fewer questions. Questionnaire #1 would focus on seat belts and include smaller sections on air bags, on general driving (including speed), and on drinking and driving because of the extensive impact of alcohol on the highway safety problem. Questionnaire #2 would focus on child restraint use, accompanied by smaller sections on Emergency Medical Services, and use of wireless phones. Both questionnaires would contain sections on crash injury experience. Some basic seat belt questions contained in Questionnaire #1 would be duplicated on Questionnaire #2.

The survey would use a multi-mode approach that employs Web as the primary response mode, with the on-line technology serving to reduce length and minimize recording errors. Mail and telephone would serve as alternative response modes for respondents that choose not to participate on-line. The telephone interviewers would use computer-assisted telephone interviewing. A Spanish-language translation of the questionnaires, and bilingual interviewers to conduct the telephone interviews, would be used to minimize language barriers to participation.

The multi-mode approach is a major change in methodology from previous administrations of the MVOSS. Therefore, the full administration of the survey would be preceded by a pilot test to assess methods for each of the response modes used in the survey.

The sample for the full administration of the survey would be drawn from an address-based sampling frame. Contact with prospective respondents would be conducted through the mail. The first contact would ask that the sampled household member go to a designated Web site to take the survey. Each respondent would be assigned a unique randomly generated PIN (Personal Identification Number) that must be used to access the questionnaire via computer. Follow up contacts would include mail and telephone as alternative response modes. The personally identifiable information used to contact respondents would be held separately from the information provided by respondents to the survey so that no connection can be made between the two. No personally identifiable information would be collected during the interviews.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

During the late 1960s and early 1970s, more than 50,000 persons were killed each year in motor vehicle crashes in the United States. Diverse approaches were taken to address the problem. Vehicle safety designs and features were improved; restraint devices were improved; safety behaviors were mandated in State legislation (including seat belt use and child safety seat use); alcohol-related legislation was enacted; this legislation was enforced; public information and education activities were widely implemented; and roadways were improved.

As a result of these interventions and improvements, crash fatalities dropped significantly. By 2011, total fatalities had fallen to 32,367, representing a 36% decline from 1966. In addition, the resident population and the number of vehicle miles traveled increased greatly over those years. When fatality rates are computed per 100,000 population, the rate for 2011 (10.39) was about 60 percent lower than the 1966 rate (25.89). In sum, heightened highway safety activity conducted over the past several decades corresponds with major strides in reducing traffic fatalities.

Remaining barriers to safety will be more resistant to programmatic influences now that the easy gains have already been accomplished. Moreover, crash fatalities rose in 2012. Thus significant effort will be needed just to preserve the gains that already have been made. Up-to-date information is essential to plot the direction of future activity that will achieve reductions in crash injuries and fatalities in the coming years.

As part of its collection of information used to develop and implement effective countermeasures to improve highway traffic safety, NHTSA conducted its first MVOSS in 1994. The survey included questions related to seat belts, child safety seats, air bags, and Emergency Medical Services. It also contained small segments on alcohol use and on speeding. The survey has been repeated five times since then, with the survey instrument updated prior to each survey administration to incorporate emergent issues and items of increased interest. The most recent MVOSS was fielded during the first quarter of calendar year 2007.

The proposed survey is the seventh MVOSS. The survey would collect data on topics included in the preceding surveys and would monitor changes over time in the use of occupant protection devices and in attitudes related to vehicle occupant safety. It is important that NHTSA monitor these changes so that the Agency can determine the effects of its efforts to promote the use of safety devices and to identify areas where its efforts should be targeted and where new strategies may be needed. As in earlier years, NHTSA proposes to make a small number of revisions to the survey instrument to address new information needs. If approved, the proposed survey would assist NHTSA in addressing motor vehicle occupant safety and in formulating programs and recommendations. The results of the proposed survey would be used to: (a) Identify areas to target current programs and activities to achieve the greatest benefit; (b) develop new programs and initiatives aimed at increasing the use of occupant safety devices by the public; and (c) provide informational support to States and localities in their traffic safety efforts. The findings would also be used directly by State and local highway safety and law enforcement agencies in the development and implementation of effective countermeasures to prevent injuries and fatalities to vehicle occupants.

Description of the Likely Respondents (Including Estimated Number, and Proposed Frequency of Response to the Collection of Information)—This proposed effort would involve cognitive testing of the questionnaires, usability tests to identify any problems with self-administration of the Web version of the questionnaires, a pilot test, and final survey administration. Businesses are ineligible for the sample and would not be interviewed. No more than one respondent would be selected per household. Each member of the sample would complete one interview.

The cognitive testing would consist of one-on-one cognitive interviews with each of nine persons selected from the general public for each questionnaire, for a total of 18 cognitive interviews. All would be drivers 18 and older. All cognitive interviews using the child restraint use questionnaire would be conducted with parents of children under the age of 9. A maximum of 100 licensed drivers 18 and older would be recruited to participate in usability tests, with all tests of the child restraint use questionnaire conducted with parents of young children. For the pilot test, a maximum of 1,200 completed interviews with people age 16 and older would be obtained. For the final survey, 12,000 completed interviews with randomly selected members of the general public age 16 and older would be obtained, 6,000 per questionnaire. The respondent sample would be selected from all 50 States plus the District of Columbia.

Estimate of the Total Annual Reporting and Record Keeping Burden Resulting from the Collection of Information—NHTSA estimates that the respondents participating in the cognitive interviewing would average ½ hours to carry out that activity, for a total of 27 hours for the 18 cognitive interviews. NHTSA estimates that the respondents participating in the usability testing would average 1 hour in carrying out that activity. The number of usability testing respondents would not exceed 100, leading to a maximum burden of 100 hours. The projected 1,200 maximum completed interviews for the pilot test, with an average duration of 15 minutes, would produce a maximum burden of 300 hours. The 12,000 final survey interviews, with an average duration of 15 minutes, would produce a burden of 3,000 hours. The maximum reporting burden for the MVOSS would be 27 hours for the cognitive testing, 100 hours for the usability testing, 300 hours for the pilot test, and 3,000 hours for the final survey for a grand total of 3,427 hours.

All interviewing would occur during a single calendar year. Thus the annual reporting burden would be the entire 3,427 hours. The respondents would not incur any reporting cost from the information collection. The respondents also would not incur any record keeping burden or record keeping cost from the information collection.

Authority: 44 U.S.C. 3506(c)(2)(A).

Issued on: May 31, 2013.
Jeffrey Michael,
Associate Administrator, Research and Program Development.

[FR Doc. 2013-13416 Filed 6-5-13; 8:45 am]

BILLING CODE 4910-59-P